DEPARTMENT OF JUSTICE

[OMB Number 1121-0111]

Agency Information Collection Activities; Proposed Collection Comments Requested; Revision of a Currently Approved Collection; National Crime Victimization Survey (NCVS)

AGENCY: Bureau of Justice Statistics, Office of Justice Programs, Department of Justice.

ACTION: 60-Day notice.

SUMMARY: The Department of Justice (DOJ), Office of Justice Programs, Bureau of Justice Statistics, will be submitting the following information collection request to the Office of Management and Budget (OMB) for review and approval in accordance with the Paperwork Reduction Act of 1995.

DATES: Comments are encouraged and will be accepted for 60 days until September 11, 2023.

FOR FURTHER INFORMATION CONTACT: If you have additional comments especially on the estimated public burden or associated response time, suggestions, or need a copy of the proposed information collection instrument with instructions or additional information, please contact Jennifer Truman, Statistician, Bureau of Justice Statistics, 810 Seventh Street NW, Washington, DC 20531 (email: Jennifer.Truman@usdoj.gov; telephone: 202-307-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The National Crime Victimization Survey (NCVS) provides national data on the level and change of criminal victimization both reported and not reported to police in the United States. The 2024 NCVS data collection will be a split sample design with the new and current instrument in order to phase-in the new NCVS instrument. The new NCVS instrument improves measurement of victimization and incident characteristics and includes two new periodic modules on police performance and community safety.

Overview of This Information Collection

1. Type of Information Collection: Revision of a currently approved collection.

2. The Title of the Form/Collection: National Crime Victimization Survey.

3. The agency form number, if any, and the applicable component of the Department sponsoring the collection: The form numbers for the questionnaire are the NCVS-1 and NCVS-2. The applicable component within the Department of Justice is the Bureau of Justice Statistics, in the Office of Justice Programs.

4. Affected public who will be asked or required to respond, as well as the obligation to respond: Affected public: Persons 12 years or older living in sampled households located throughout the United States. The obligation to respond is voluntary.

5. An estimate of the total number of respondents and the amount of time estimated for an average respondent to respond: The estimated annual number of respondents is 182,504. The time per response is 25 minutes to complete the current NCVS instrument. The time per response is 32 minutes to complete the new NCVS instrument. It will take the average non-interviewed respondent (e.g., nonrespondent) an estimated 7 minutes to respond; the average follow-up interview is estimated at 15 minutes; and the average follow-up for a non-interview is estimated at 1 minute.

6. An estimate of the total annual burden (in hours) associated with the collection: The total annual burden hours for this collection is 124,888.

7. An estimate of the total annual cost burden associated with the collection, if applicable: $0.

Total Burden Hours
Activity | Number of respondents | Frequency | Total annual responses | Time per response (minutes) | Total annual burden (hours)
Interviewed—current NCVS | 57,490 | 2 | 114,980 | 25 | 47,912
Interviewed—new NCVS | 57,490 | 2 | 114,980 | 32 | 61,319
Noninterviewed | 57,347 | 2 | 114,694 | 7 | 13,385
Reinterview (Interviews) | 9,011 | 1 | 9,011 | 15 | 2,253
Reinterview (Noninterviews) | 1,166 | 1 | 1,166 | 1 | 19
Unduplicated Totals | 182,504 |  | 354,831 |  | 124,888

If additional information is required contact: Darwin Arceo, Department Clearance Officer, United States Department of Justice, Justice Management Division, Policy and Planning Staff, Two Constitution Square, 145 N Street NE, 4W-218, Washington, DC.

Dated: July 10, 2023.
Darwin Arceo,
Department Clearance Officer for PRA, U.S. Department of Justice.

[FR Doc. 2023-14854 Filed 7-12-23; 8:45 am]

BILLING CODE 4410-18-P